DEPARTMENT OF ENERGY

Federal Energy Regulatory Commission

Combined Notice of Filings

Take notice that the Commission has received the following Natural Gas Pipeline Rate and Refund Report filings:

Filings Instituting Proceedings

Docket Numbers: CP16-494-001.

Applicants: Transcontinental Gas Pipe Line Company, LLC.

Description: Transcontinental Gas Pipe Line Company, LLC submits an application to amend the Commission's certificate authorizing the Gulf Connector Expansion Project under CP16-494.

Filed Date: 9/7/18.

Accession Number: 20180907-5124.

Comments Due: 5 p.m. ET 9/28/18.

Docket Numbers: RP17-887-001.

Applicants: Equitrans, L.P.

Description: Compliance filing EFT First Year of Service—Compliance Filing.

Filed Date: 9/19/18.

Accession Number: 20180919-5031.

Comments Due: 5 p.m. ET 10/1/18.

Docket Numbers: RP18-1188-000.

Applicants: Iroquois Gas Transmission System, L.P.

Description: § 4(d) Rate Filing: 091918 Negotiated Rates—Spark Energy Gas, LLC R-3045-23 to be effective 11/1/2018.

Filed Date: 9/19/18.

Accession Number: 20180919-5016.

Comments Due: 5 p.m. ET 10/1/18.

Docket Numbers: RP18-1189-000.

Applicants: Iroquois Gas Transmission System, L.P.

Description: § 4(d) Rate Filing: 091918 Negotiated Rates—Spark Energy Gas, LLC R-3045-24 to be effective 11/1/2018.

Filed Date: 9/19/18.

Accession Number: 20180919-5017.

Comments Due: 5 p.m. ET 10/1/18.

Docket Numbers: RP18-1190-000.

Applicants: Iroquois Gas Transmission System, L.P.

Description: § 4(d) Rate Filing: 091918 Negotiated Rates—Spark Energy Gas, LLC R-3045-25 to be effective 11/1/2018.

Filed Date: 9/19/18.

Accession Number: 20180919-5018.

Comments Due: 5 p.m. ET 10/1/18.

Docket Numbers: RP18-1191-000.

Applicants: NEXUS Gas Transmission, LLC.

Description: § 4(d) Rate Filing: NEXUS Negotiated Rate Agreements Filing to be effective 10/1/2018.

Filed Date: 9/19/18.

Accession Number: 20180919-5026.

Comments Due: 5 p.m. ET 10/1/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 20, 2018.
Nathaniel J. Davis, Sr.,
Deputy Secretary.

[FR Doc. 2018-20894 Filed 9-25-18; 8:45 am]

BILLING CODE 6717-01-P